DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period August 11, 2005-September 15, 2005
Firm name | Address | Date petition accepted | Product
O'Brien Corporation and Cardinal Systems, Inc | 1900 Crystal Industrial Ct., St. Louis, MO 63114 | 29-Jul-05 | Industrial heat exchange products.
NRM Industries, Inc | 1655 Industrial Drive, Owosso, MI 48867 | 11-Aug-05 | Injection molded plastic products for the house ware, home building, and automotive industries.
Clearwater Nursery, Inc | 887 Mesa Road, Nipomo, CA 93444 | 22-Aug-05 | Fresh flowers.
Don Hume Leathergoods, Inc | 400 Newman Road, N. Miami, OK 74358 | 22-Aug-05 | Leather and nylon enforcement products including holsters, belts and holders.
Philip Machine Company, Inc | 184 Woonasquatucket Avenue, North Providence, RI 02911 | 23-Aug-05 | Metal findings, and custom metal stampings for belt buckles, clothes and accessories.
SSI Manufacturing Technologies Corporation | 675 Emmett Street, Bristol, CT 06010 | 23-Aug-05 | Medical instruments and parts for medical devices.
Printek, Inc | 1517 Townline Road, Benton Harbor, MI 49022 | 24-Aug-05 | Printers for use with business machines.
Villa Rica Knitters, Inc | 600 Rockmart Highway, Villa Rica, GA 30180 | 25-Aug-05 | Acrylic and wool knitted accessories including hats, watch caps, leg and arm warners, scarves, facemasks, etc.
Walco Electric Company | 303 Allens Avenue, Providence, RI 02905 | 27-Aug-05 | Electric motors.
Restorative Medical, Inc | 332 East Broadway, Brandenbrug, KY 40108 | 29-Aug-05 | Orthopedic, prosthetic, and surgical appliances and supplies.
George Koch Sons, LLC | 10 S. Eleventh Avenue, Evansville, IN 47744 | 14-Sep-05 | Custom designed automated finishing systems for industries, i.e. spraying apparatus.
Hitachi Metals North Carolina, Ltd. | 1 Hitachi Metals Drive, China Grove, NC 28023 | 14-Sep-05 | Magnets for the construction of motors to be used primarily in automotive applications.
Performance Stamping Co., Inc | 20 Lake Marina Road, Carpentersville, IL 60110 | 14-Sep-05 | Stamped metal for the household refrigerator appliance, automotive, computer, household fixture and electrical industries.
Schmald Tool and Die, Inc | 4206 South Saginaw, Burton, MI 48529 | 14-Sep-05 | Plastic injection molds, dies, and machine tools for working metals and parts of plastic for vehicles.
W.L. Duffing, L.P | 5223 West Orem Drive, Houston, TX 77045 | 14-Sep-05 | Parts for electronic measuring instruments.
Carlos Knitting Mill, LLC and Lifestyle Apparel, LLC | 3100 East 26th Street, Vernon, CA 90023 | 15-Sep-05 | Knitted fabric.
Galvotec Alloys, Inc | 6712 South 36th Street, McAllen, TX 78503 | 15-Sep-05 | Aluminum alloys, including galvanic anodes.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7812, Economic Development Administration, U.S. Department of Commerce, Washington, DC 20230, no later than the close of business of the tenth calendar day following the publication of this notice. The Catalog of Federal Domestic Assistance official program number and title of the program under which these petitions are submitted is 11.313, Trade Adjustment Assistance.

Dated: September 14, 2005.
Anthony J. Meyer,
Senior Program Analyst, Office of Strategic Initiatives.

[FR Doc. 05-18685 Filed 9-19-05; 8:45 am]

BILLING CODE 3510-24-P